AFRICAN DEVELOPMENT FOUNDATION

Public Quarterly Meeting of the Board of Directors

AGENCY: United States African Development Foundation.

ACTION: Notice of meeting.

SUMMARY: The US African Development Foundation (USADF) will hold its quarterly meeting of the Board of Directors to discuss the agency's programs and administration. This meeting will occur via telephone as a conference call.

DATES: The meeting date is Wednesday, July 18, 11:00 a.m. to 12:30 p.m.

ADDRESSES: The meeting location is USADF, 1400 I St. NW, Suite 1000, Washington, DC 20005.

FOR FURTHER INFORMATION CONTACT: Patrick Crooks, 202-233-8803.

Authority: Public Law 96-533 (22 U.S.C. 290h).

Dated: July 5, 2018.
June B. Brown,
General Counsel.

[FR Doc. 2018-14745 Filed 7-10-18; 8:45 am]

BILLING CODE 6117-01-P